DEPARTMENT OF COMMERCE

International Trade Administration

National Institute of Standards and Technology; Notice of Decision on Application for Duty-Free Entry of Scientific Instrument

This decision is made pursuant to section 6(c) of the Educational, Scientific, and Cultural Materials Importation Act of 1966 (Pub. L. 89-651, 80 Stat. 897; 15 CFR part 301). Related records can be viewed between 8:30 a.m. and 5 p.m. in Suite 4100W, U.S. Department of Commerce, Franklin Court Building, 1099 14th Street, NW., Washington, DC.

Docket Number: 03-052. Applicant: National Institute of Standards and Technology, Gaithersburg, MD 20899. Instrument: Dual Beam Scanning Electron and Focused Ion Beam Microscope System, Model Nova 600 NanoLab. Manufacturer: FEI Company, The Netherlands. Intended Use: See notice at 68 FR 69659, December 15, 2003.

Comments: None received. Decision: Approved. No instrument of equivalent scientific value to the foreign instrument, for such purposes as it is intended to be used, is being manufactured in the United States. Reasons: The foreign instrument provides state-of-the-art capabilities for performing nanoscale metrology including: (1) Operation at both high and low vacuum and electron energies; (2) high accuracy laser interferometry; and (3) a specially adapted stage to accommodate large samples for integrated circuit applications. Sandia National Laboratories and a university research center advise that (1) These capabilities are pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 04-3981 Filed 2-23-04; 8:45 am]

BILLING CODE 3510-DS-P